DEPARTMENT OF LABOR

Employment and Training Administration

Investigations Regarding Certifications of Eligibility to Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 8, 2007.

Interested persons are invited to submit written comments regarding the subject matter of the investigations to the Director, Division of Trade Adjustment Assistance, at the address shown below, not later than January 8, 2007.

The petitions filed in this case are available for inspection at the Office of the Director, Division of Trade Adjustment Assistance, Employment and Training Administration, U.S. Department of Labor, Room C-5311, 200 Constitution Avenue, NW., Washington, DC 20210.

Linda G. Poole,
Certifying Officer, Division of Trade Adjustment Assistance.

Appendix—TAA Petitions Instituted Between 12/11/06 and 12/15/06

TA-W | Subject Firm (Petitioners) | Location | Date of Institution | Date of Petition
60568 | Fiberweb/Reemay, Inc. (Comp) | Bethune, SC | 12/11/06 | 12/08/06
60569 | Metaldyne (Comp) | Solon, OH | 12/11/06 | 12/05/06
60570 | Sanyo Manufacturing Corporation (State) | Forrest City, AR | 12/11/06 | 12/08/06
60571 | Caribe General Electric (State) | Humacao, PR | 12/11/06 | 12/13/06
60572 | Senco Products, Inc. (Wkrs) | Cincinnati, OH | 12/11/06 | 11/16/06
60572A | Senco Products, Inc. (Wkrs) | Cincinnati, OH | 12/11/06 | 11/16/06
60573 | Teva Pharmaceuticals (State) | Cidra, PR | 12/11/06 | 11/22/06
60574 | Finegoods Molding, Inc. (State) | Carson, CA | 12/11/06 | 11/29/06
60575 | Store Room Solutions (State) | Conshohocken, PA | 12/12/06 | 12/11/06
60576 | Schnadig Corporation (Comp) | Belmont, MS | 12/12/06 | 11/30/06
60577 | Dixie Regency (Wkrs) | Hickory, NC | 12/12/06 | 11/28/06
60578 | Loud Technologies (Comp) | Whitinsville, MA | 12/12/06 | 12/11/06
60579 | Dana Corporation (Wkrs) | Danville, KY | 12/12/06 | 12/06/96
60580 | Lear Corporation (IAMAW) | Zanesville, OH | 12/12/06 | 11/30/06
60581 | Jeanne Skin Care Cosmetics Ltd. (Wkrs) | New York City, NY | 12/12/06 | 11/28/06
60582 | Harodite Industries, Inc. (State) | Travelers Rest, SC | 12/13/06 | 12/11/06
60583 | Pulaski Furniture Corporation (Comp) | Pulaski, VA | 12/13/06 | 12/12/06
60584 | Hart and Cooley, Inc. (IAMAW) | Holland, MI | 12/13/06 | 12/11/06
60585 | A.M. Todd Company (Comp) | Eugene, OR | 12/13/06 | 12/11/06
60586 | Dyno Nobel, Inc. (Comp) | Wolf Lake, IL | 12/13/06 | 11/21/06
60587 | Federal Mogul/National Seal Division (USW) | Van Wert, OH | 12/13/06 | 12/11/06
60588 | Clayson Knitting Company, Inc. (Comp) | Star, NC | 12/13/06 | 12/08/06
60589 | Ace Industries, LLC (Comp) | Lineville, AL | 12/13/06 | 12/11/06
60590 | Unifi Plant 4 (Comp) | Reidsville, NC | 12/13/06 | 12/08/06
60591 | Leggett and Platt, Inc. (Comp) | Phoenix, AZ | 12/13/06 | 12/05/06
60592 | South End Manufacturing (Comp) | Lawrenceburg, TN | 12/13/06 | 12/06/06
60593 | Paul Lavitt Mills, Inc. (Comp) | Lincolnton, NC | 12/14/06 | 12/12/06
60594 | Ampac (Wkrs) | Spanish Fork, VT | 12/14/06 | 12/12/06
60595 | Berkline Benchcraft, LLC (Wkrs) | Blue Mountain, MS | 12/14/06 | 12/08/06
60596 | TTM Technologies (State) | Dallas, OR | 12/14/06 | 12/08/06
60597 | Mason County Forest Products (Wkrs) | Shelton, WA | 12/14/06 | 11/29/06
60598 | Checkpoint Caribbean Ltd. (State) | Ponce, PR | 12/14/06 | 01/13/06
60599 | E. S. Sutton dba Swak, LLC (Wkrs) | Ridgewood, NY | 12/14/06 | 12/08/06
60600 | Creative Apparel (Wkrs) | Eastport, ME | 12/14/06 | 12/12/06
60601 | Weyerhaeuser Company (State) | Mountain Pine, AR | 12/14/06 | 12/12/06
60602 | Photocircuits Corporation (Comp) | Glen Cove, NY | 12/14/06 | 12/02/06
60603 | Wetherill Assoc., Inc. (Wkrs) | Royersford, PA | 12/14/06 | 12/07/06
60604 | T.A. Service Corporation (State) | Newark, NJ | 12/15/06 | 12/01/06
60605 | Robetex, Inc. (Comp) | Lumberton, NC | 12/15/06 | 10/02/06
60606 | Pfizer, Inc. (Wrks) | Kalamazoo, MI | 12/15/06 | 11/07/06
60607 | Stimson Lumber Company (LPIW) | Bonner, MT | 12/15/06 | 12/05/06
60608 | Valley Mills (Comp) | Valley Head, AL | 12/15/06 | 12/13/06
60609 | Roseburg Forest Products (Comp) | Coquille, OR | 12/15/06 | 12/13/06
60610 | Southampton Textile Co. (Wrks) | Emporia, VA | 12/15/06 | 12/05/06
60611 | B.M.C.I. Rodgers Molding Corp. (Wrks) | El Paso, TX | 12/15/06 | 12/13/06
60612 | Riley Creek Lumber Company (Wrks) | Moyie Springs, ID | 12/15/06 | 12/13/06
60613 | Stanley Furniture Company (Comp) | Robbinsville, NC | 12/15/06 | 12/13/06
60614 | Weyerhaeuser Company (State) | West Memphis, AR | 12/15/06 | 12/13/06
60615 | The York Group Metal Casket (Comp) | Marshfield, MO | 12/15/06 | 12/12/06
60616 | APW (State) | Anaheim, CA | 12/15/06 | 12/14/06
60617 | Dana Corporation (Wrks) | Danville, KY | 12/15/06 | 12/04/06
60618 | Lockheed Martin (IUE) | Moorestown, NJ | 12/15/06 | 12/07/06
60619 | Alcan Packaging, Inc. (State) | Lincoln Park, NJ | 12/15/06 | 12/01/06
60620 | Point Technologies (Wrks) | Wheeling, IL | 12/15/06 | 11/17/06
60621 | Lighting By Renee (Wrks) | West Memphis, AR | 12/15/06 | 12/13/06
60622 | Arvin Meritor OE, LLC (Wrks) | Mullins, SC | 12/15/06 | 12/05/06
60623 | Holiday Housewares, Inc. (State) | Leominster, MA | 12/15/06 | 11/22/06

[FR Doc. E6-22133 Filed 12-26-06; 8:45 am]

BILLING CODE 4510-30-P